DEPARTMENT OF THE INTERIOR

Bureau of Land Management

[NM 120-06-1610-DQ]

Notice of Availability of the Socorro Proposed Resource Management Plan and Final Environmental Impact Statement

AGENCY: Bureau of Land Management, Interior.

ACTION: Notice of availability.

SUMMARY: In accordance with the National Environmental Policy Act of 1969 and the Federal Land Policy and Management Act of 1976, the Bureau of Land Management (BLM) has prepared the Socorro Proposed Resource Management Plan/Final Environmental Impact Statement (PRMP/FEIS) for the Socorro Field Office in New Mexico.

DATES: BLM Planning Regulations (43 CFR 1610.5-2) state that any person who meets the conditions as described in the regulations may protest the BLM's Proposed RMP. A person who meets the conditions and files a protest must file the protest within 30 days of the date that the Environmental Protection Agency publishes this notice in the Federal Register.

ADDRESSES: Copies of the Socorro PRMP/FEIS have been sent to affected Federal, state, and local government agencies and to interested parties. Copies of the PRMP/FEIS are available for public inspection at the Socorro Field Office. Interested persons may also review the PRMP/FEIS on the Internet at http://www.nm.blm.gov.

FOR FURTHER INFORMATION CONTACT: Kevin I. Carson, Socorro Field Office, 901 S. Highway 85, Socorro, New Mexico 87801; or by telephone at (575) 838-1280; fax at (575) 835-0223; or e-mail at nm_comments@nm.blm.gov.

SUPPLEMENTARY INFORMATION: The planning area encompasses all lands, regardless of jurisdiction, within Socorro and Catron counties, New Mexico, totaling 8.7 million acres. The decision area for the PRMP/FEIS includes 1.5 million acres of BLM-administered lands and 6.1 million acres of Federal mineral estate located in both counties. Until the Record of Decision on the PRMP/FEIS is signed, these lands and minerals will be managed in accordance with the 1989 Socorro Resource Management Plan and subsequent amendments.

The PRMP/FEIS describes the physical, cultural, historic, and socioeconomic resources in and around the planning area and documents the direct, indirect, and cumulative environmental impacts of four alternatives for BLM-administered lands and resources within the planning area. The impact analysis focuses on resource issues and concerns identified during scoping and public involvement activities. Issues identified during scoping (not in priority order) and from public comment were related to special designations, soil and vegetation conditions, transportation and access, energy development, land use, and recreation and heritage tourism opportunities.

A summary of the four alternatives in the PRMP/FEIS are as follows. The No-Action Alternative, Alternative A, represents the continuation of existing management, which is defined by the 1989 Socorro RMP and subsequent amendments. Alternative B, the BLM's proposed alternative, proposes managing the public lands for multiple uses and sustaining the health, diversity, and productivity of the lands for present and future generations. Alternative C emphasizes resource protection, while Alternative D emphasizes commodity production and use, while still complying with applicable laws, regulations, and BLM policies. Within all alternatives, Areas of Critical Environmental Concern (ACECs) have been identified to protect certain resources. The proposed alternative has identified the following ACECs due to their significant cultural, scenic, or natural values: Cerro Pomo, Horse Mountain, Ladron Mountain Devil's Backbone Complex, Mockingbird Gap, Pelona Mountain, Sawtooth, and Zuni Salt Lake. After the Draft RMP/EIS was released to the public, acreage corrections were made to the following proposed ACECs to address geographical information system data errors. These errors affected only the Alternative B acreages for the Cerro Pomo ACEC and the Tinajas ACEC. The corrections are shown in the table below.

| Draft RMP/EIS | Proposed RMP/EIS
Cerro Pomo ACEC | 26,284 acres | 28,248 acres.
Tinajas ACEC | 1,062 acres | 0 acres.

(For additional information on management restrictions and acreage figures for each ACEC refer to Chapter 2 of the PRMP/FEIS.) These corrections do not represent a change in the management of the lands that were evaluated in the Draft RMP/EIS. The Draft RMP/EIS was released to the public for a 90-day comment period in April 2007. The BLM hosted public meetings in Datil and Socorro, New Mexico, to answer questions about the document, as well as to solicit comments from the public. Public comments on the Draft RMP/EIS are on file and available for public review at the address listed above. Public comments on the Draft RMP/EIS resulted in the addition of clarifying text in the PRMP/FEIS, but did not substantively change the proposed decisions in the preferred alternative.

Instructions for filing a protest with the Director of the BLM regarding the PRMP/FEIS may be found in the Dear Reader Letter of Socorro Proposed Resource Management Plan and Final Environmental Impact Statement and at 43 CFR 1610.5-2. E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at (202) 452-5112, and e-mailed protests to Brenda_Hudgens-Williams@blm.gov.

All protests including the follow up letter (if e-mailing or faxing) must be in writing and must be mailed to the following address:

Regular Mail: Overnight Mail: Director (210), Attention: Brenda Williams,P.O. Box 66538, Washington, DC 20035.

Overnight Mail: Director (210), Attention: Brenda Williams, 1620 L Street, NW., Suite 1075, Washington, DC 20036.

Before including your phone number, e-mail address, or other personal identifying information in your protest, you should be aware that your entire protest—including your personal identifying information—may be made publicly available at any time. While you can ask us in your protest to withhold your personal identifying information from public review, we cannot guarantee that we will be able to do so.

Ron Dunton,
New Mexico Deputy State Director.

[FR Doc. E8-28707 Filed 12-4-08; 8:45 am]

BILLING CODE 4310-FB-P